FEDERAL COMMUNICATIONS COMMISSION

Public Information Collection Approved By the Office of Management and Budget

July 11, 2005.

SUMMARY: The Federal Communications Commissions (FCC) has received Office of Management and Budget (OMB) approval for the following public information collection pursuant to the Paperwork Reduction Act of 1995 (PRA), Public Law 104-13, 109 Stat 163 (1995). An agency may not conduct or sponsor a collection of information unless it displays a currently valid control number. Notwithstanding any other provisions of law, no person shall be subject to any penalty for failing to comply with a collection of information subject to the PRA that does not display a valid control number.

FOR FURTHER INFORMATION CONTACT: For additional information or questions concerning the OMB control number and expiration date should be directed to Evan Baranoff, Kenneth Lewis or Eloise Gore, Federal Communications Commission, 445 12th Street, SW., Washington, DC 20554, (202) 418-2120 or via the Internet to Evan.Baranoff@fcc.gov, Kenneth.Lewis@fcc.gov or Eloise.Gore@fcc.gov.

OMB Control Number: 3060-0311.

OMB Approval Date: 5/25/05.

OMB Expiration Date: 5/31/08.

Title: 47 CFR 76.54, Significantly Viewed Signals; Method to be followed for Special Showings.

Form Number: Not applicable.

Respondents: Business or other for-profit entities.

Number of Respondents: 500.

Estimated Time Per Response: 1-15 hours.

Total Annual Burden: 20,610 hours.

Total Annual Costs: $200,000.

Needs and Uses: 47 CFR 76.54(b) provides for cable operators and broadcast stations seeking cable carriage of “significantly viewed” signals to use the Section 76.7 petition process to demonstrate “significantly viewed” status on a community basis by independent professional audience surveys. The proposed rule changes, if adopted, would require satellite carriers or broadcast stations seeking satellite carriage of “significantly viewed” signals to use the same petition process now in place for cable operators, as required by 47 CFR sections 76.5, 76.7 and 76.54 of the FCC's rules.

47 CFR 76.54(c) is used to notify interested parties, including licensees or permittees of television broadcast stations, about independent professional audience surveys that are being conducted by an organization to demonstrate that a particular broadcast station is eligible for significantly viewed status under the Commission's rules. The notifications provide interested parties with an opportunity to review survey methodologies and file objections. The proposed § 76.54(c) retains the existing notification requirement, but, if adopted, would increase the potential number of parties that would file such notifications.

47 CFR 76.54(d) provides for cable operators and broadcast stations seeking cable carriage of “significantly viewed” signals to use the Section 76.7 petition process to demonstrate “significantly viewed” status on. The proposed rule changes if adopted, would expand use of the Section 76.7 petition process to include petitions filed by satellite carriers or broadcast stations seeking satellite carriage of “significantly viewed” signals.

47 CFR 76.54(e) and (f) are proposed additions to the rule. If adopted, these rules would be used to notify television broadcast stations about the retransmission of significantly viewed signals by a satellite carrier into these stations' local market.

OMB Control Number: 3060-0888.

OMB Approval Date: 5/25/05.

OMB Expiration Date: 5/31/08.

Title: Section 76.7, Petition Procedures; Section 76.9, Confidentiality of Proprietary Information; Section, 76.61, Dispute Concerning Carriage; Section 76.914, Revocation of Certification; Section 76.1003, Program Access Proceedings; Section 76.1302, Carriage Agreement Proceedings; Section 76.1513, Open Video Dispute Resolution.

Form Number: Not applicable.

Respondents: Business or other for-profit entities.

Number of Respondents: 500.

Estimated Time Per Response: 4—60 hours.

Total Annual Burden: 16,000 hours.

Total Annual Costs: $200,000.

Needs and Uses: 47 CFR 76.7 is used to make determinations on petitions and complaints filed with the Commission. The rule is used for numerous types of petitions and special relief petitions, including general petitions seeking special relief, waivers, enforcement, show cause, forfeiture and declaratory ruling procedures. The proposed rule changes would expand use of the Section 76.7 petition process to include the filing of complaints under the Section 340 of the Act enforcement provisions. Thus, if adopted, the proposed rule changes would expand the potential number of parties and situations that may require the filing of § 76.7 petitions.

OMB Control Number: 3060-0960.

OMB Approval Date: 5/25/05.

OMB Expiration Date: 5/31/08.

Title: 47 CFR 76.122, Satellite Network Non-duplication Protection Rules; 47 CFR 76.123, Satellite Syndicated Program Exclusivity Rules; 47 CFR 76.124, Requirements for Invocation of Non-duplication and Syndicated Exclusivity Protection; 47 CFR 76.127, Satellite Sports Blackout Rules.

Form Number: Not applicable.

Respondents: Business or other for-profit entities.

Number of Respondents: 1,428.

Estimated Time Per Response: 0.5-1 hour.

Total Annual Burden: 12,402 hours.

Total Annual Costs: None.

Needs and Uses: 47 CFR 76.122, 76.123, 76.124 and 76.127 are used to protect exclusive contract rights negotiated between broadcasters, distributors, and rights holders for the transmission of network, syndicated, and sports programming in the broadcasters' recognized market areas. The proposed rule changes to §§ 76.122 and 76.123, if adopted, would implement statutory requirements to provide new rights for in-market stations to assert nonduplication and exclusivity rights, potentially increasing the number of filings pursuant to these rules. No changes to §§ 76.124 and 76.127 are proposed.

OMB Control Number: 3060-0980.

OMB Approval Date: 6/14/05.

OMB Expiration Date: 6/30/08.

Title: SHVERA Rules; Implementation of Section 210 of the Satellite Home Viewer Extension and Reauthorization Act of 2004 (Broadcast Signal Carriage Issues, Retransmission Consent Issues).

Form Number: Not applicable.

Respondents: Business or other for-profit entities.

Number of Respondents: 7,179.

Estimated Time Per Response: 1-5 hours.

Total Annual Costs: $30,000.

Needs and Uses: On April 29, 2005, the Commission adopted a Notice of Proposed Rule Making (NPRM), In the Matter of the Implementation of Section 210 of the Satellite Home Viewer Extension and Reauthorization Act of 2004 to Amend Section 338 of the Communications Act, MB Docket No. 05-181, FCC 05-92. The NPRM proposed amendments to 47 CFR 76.66 to implement section 210 of the Satellite Home Viewer Extension and Reauthorization Act of 2004 (“SHVERA”). Section 210 of the SHVERA amends section 338(a) of the Communications Act of 1934, as amended, (“Communications Act” or “Act”). Section 338 governs the carriage of local television broadcast stations by satellite carriers. In general, the SHVERA amends this section to require satellite carriers to carry both the analog and digital signals of television broadcast stations in local markets in noncontiguous States (including Alaska and Hawaii), and to provide these signals to substantially all of their subscribers in each station's local market by December 8, 2005 for analog signals and by June 8, 2007 for digital signals.

On March 28, 2005, the Commission adopted an Order, FCC 05-81, Implementation of the Satellite Home Viewer Extension and Reauthorization Act of 2004 (“SHVERA”), Procedural Rules, to implement procedural rules as required by the SHVERA. The SHVERA is the third statute that addresses satellite carriage of television broadcast stations. The 2004 SHVERA gives satellite carriers the additional option to carry Commission-determined “significantly viewed” out-of-market signals to subscribers. The SHVERA requires the Commission to undertake several proceedings to implement new rules, revise existing rules, and conduct studies. The Procedural Rules Order to implement sections 202, 205, and 209 of the SHVERA is one of a number of Commission proceedings that will be required to implement the SHVERA.

Federal Communications Commission.
Marlene H. Dortch,
Secretary.

[FR Doc. 05-14176 Filed 7-19-05; 8:45 am]

BILLING CODE 6712-01-P